DEPARTMENT OF AGRICULTURE

Forest Service

Caribou-Targhee National Forest; Idaho and Wyoming; Withdrawal of Notice of Intent To Prepare a Supplemental Environmental Impact Statement for the Targhee Revised Forest Plan With Proposed Forest Plan Amendment

AGENCY: Forest Service, Agriculture (USDA).

ACTION: Notice; withdrawal.

SUMMARY: The Caribou-Targhee National Forest is withdrawing the Notice of Intent (NOI) that was published in the Federal Register on October 29, 2010 (75(209):66719-66721) to prepare a Supplemental Environmental Impact Statement (SEIS) for a Forest Plan Amendment to the 1997 Revised Forest Plan for the Targhee National Forest.

FOR FURTHER INFORMATION CONTACT: Questions concerning this notice should be directed to: Robbert Mickelsen, Forest Planning Staff Officer, 1405 Hollipark Drive, Idaho Falls, Idaho 83401 or 208-206-3637.

Individuals who use telecommunication devices for the deaf/hard-of-hearing (TDD) may call the Federal Relay Service (FRS) at 1-800-877-8339, 24 hours a day, every day of the year, including holidays.

SUPPLEMENTARY INFORMATION: A NOI to prepare a SEIS was first published in the Federal Register on May 28, 2008 (73(99):29480-29481) to Prepare a Supplemental Environmental Impact Statement for the Targhee Revised Forest Plan with Proposed Forest Plan Amendment and was revised on October 29, 2010 (75(209):66719-66721) to further develop the proposed action.

The Forest Supervisor in consultation with the Intermountain Regional Office has determined that the 2010 Proposed Forest Plan Amendment should be withdrawn due to changes that have occurred since the publication in the Federal Register. Specifically, the 2010 Proposed Forest Plan Amendment does not align with amendment procedures in the 2012 Planning Rule, revised Council on Environmental Quality regulations, and other new information regarding population and habitat status for some wildlife species that affects the original proposal.

Dated: December 22, 2021.
Sandra Watts,
Acting Associate Deputy Chief, National Forest System.

[FR Doc. 2021-28302 Filed 12-28-21; 8:45 am]

BILLING CODE 3411-15-P